DEPARTMENT OF COMMERCE

National Oceanic and Atmospheric Administration

50 CFR Part 660

[Docket No. 070404078-0778-01]

RIN 0648-XB00

Fisheries off West Coast States; Pacific Coast Groundfish Fishery; End of the Pacific Whiting Primary Season for the Catcher-processor, Mothership and Shore-based Sectors

AGENCY: National Marine Fisheries Service (NMFS), National Oceanic and Atmospheric Administration (NOAA), Commerce.

ACTION: Fishing restrictions; request for comments.

SUMMARY: NMFS announces the end of the 2007 Pacific Whiting (whiting) primary Season for the catcher-processor, mothership and shore-based sectors at 1800 local time (l.t.) July 26, 2007. This action is intended to minimize impacts on widow rockfish and to keep the harvest of widow rockfish, an overfished species, within its 2007 optimum yield (OY).

DATES: Effective from 1800 l.t. July 26, 2007, until the start of the 2008 primary seasons, unless modified, superseded or rescinded in which NMFS will publish a notification in the Federal Register. Comments will be accepted through September 4, 2007.

ADDRESSES: You may submit comments, identified by [RIN number 0648-XB00], by any of the following methods:

1. E-mail:. Whitingclosureall.nwr@noaa.gov Include [RIN number 0648-XB00] in the subject line of the message.

2. Federal eRulemaking Portal: http://www.regulations.gov. Follow the instructions for submitting comments.

3. Fax: 206-526-6736, Attn: Becky Renko.

4. Mail: D. Robert Lohn, Administrator, Northwest Region, NMFS, 7600 Sand Point Way NE, Seattle, WA 98115-0070, Attn: Becky Renko.

FOR FURTHER INFORMATION CONTACT: Becky Renko at 206-526-6110.

SUPPLEMENTARY INFORMATION: This action is authorized by regulations implementing the Pacific Coast Groundfish Fishery Management Plan (FMP), which governs the groundfish fishery off Washington, Oregon, and California.

The 2007 non-tribal commercial optimum yield (OY) for whiting is 208,091 mt. Regulations at 50 CFR 660.323(a)(4) divide the commercial whiting OY into separate allocations for the catcher-processor, mothership, and shore-based sectors. The catcher-processor sector is composed of vessels that harvest and process whiting. The mothership sector is composed of catcher vessels that harvest whiting and mothership vessels that process, but do not harvest whiting. The shore-based sector is composed of vessels that harvest whiting for delivery to land-based processors. Each commercial sector receives a portion of the commercial OY. For 2007, the catcher-processors received 34 percent (70,751 mt), motherships received 24 percent (49,942 mt), and the shore-based sector received 42 percent (87,398 mt).

Overfished Species

The limited availability of overfished species that can be taken as incidental catch in the whiting fisheries, particularly canary, darkblotched and widow rockfish led to NMFS implementing bycatch limits for those species. With bycatch limits, the industry has the opportunity to harvest a larger whiting OY, providing the incidental catch of overfished species does not exceed the adopted bycatch limits. If a bycatch limit is reached, all non-tribal sectors of the whiting fishery are closed for the remainder of the year. For 2007, the following bycatch limits were specified for the non-tribal whiting sectors: 4.7 mt for canary rockfish, 25 mt for darkblotched rockfish and 220 mt for widow rockfish.

The best available information on July 25, 2007, indicated that 220.7 mt of widow rockfish had been taken in the whiting fisheries in 2007. Accordingly, the primary seasons for the catcher-processor sector, mothership sector and the shore-based sectors were ended at 1800 l.t. July 26, 2007 through actual notice to the fishers. Actual notice was made by fax, VHS radio notice to mariners, internet postings on the Northwest Region's whiting web site and the Oregon Department of Wildlife's whiting web site, and by emails sent to a public groundfish listserve maintained by NMFS Northwest Region.

NMFS Action

This notice announces that the primary seasons for the catcher-processor, mothership and shore-based sectors of the whiting fishery, was ended at 1800 l.t. July 26. The best available information on July 25, 2007, indicated that 220.7 mt of widow rockfish has been taken by these sectors of the whiting fisheries. Because the bycatch limit had been reached and in accordance with the regulations at 50 CFR 660.373(b)(4), NMFS announced that effective 1800 l.t. July 26, 2007: (1) further taking and retaining, receiving or at-sea processing of whiting by a catcher-processor is prohibited; (2) further taking and retaining, receiving or at-sea processing of whiting by a mothership processor is prohibited, and (3) no more than 10,000-lb (4,536 kg) of whiting may be taken and retained, possessed or landed by any vessel participating in the shore-based sector of the whiting fishery, unless otherwise announced in the Federal Register. For vessels in the at-sea processing sectors, no additional unprocessed whiting may be brought on board after at-sea processing is prohibited, but a catcher-processor or mothership may continue to process whiting that was on board before at-sea processing was prohibited. For vessels in the shore-based sector fishing shoreward of the 100 fm (183 m) contour in the Eureka area (43O - 40O30' N. lat.) at any time during a fishing trip, the 10,000-lb (4,536 kg) trip limit applies, as announced in the management measures 660.373 (d).

Classification

This action is authorized by the regulations implementing the FMP. The determination to take this action is based on the most recent data available. Actual notice of the closure was provided to the fishers prior to the effective date. The Assistant Administrator for Fisheries, NMFS, finds good cause to waive the requirement to provide prior notice and opportunity for comment on this action pursuant to 5 U.S.C. 553 (3)(b)(B), because providing prior notice and opportunity would be impracticable. It would be impracticable because if this closure were delayed in order to provide notice and comment, the catch of widow rockfish would be expected to result in the rebuilding-based OY being exceeded. The delay needed to provide a cooling off period also could be expected to result in the rebuilding-based OY for widow rockfish being exceeded. Therefore, good cause also exists to waive the 30-day delay in effectiveness requirement of 5 U.S.C. 553 (d)(3). The aggregate data upon which the determination is based are available for public inspection at the Office of the Regional Administrator (see ADDRESSES) during business hours.

This action is taken under the authority of 50 CFR 660.373 (b) and is exempt from review under E.O. 12866.

Authority: 16 U.S.C. 1801 et seq.

Dated: August 10, 2007.
Emily H. Menashes,
Acting Director, Office of Sustainable Fisheries, National Marine Fisheries Service.

[FR Doc. E7-16234 Filed 8-16-07; 8:45 am]

BILLING CODE 3510-22-S